DEPARTMENT OF COMMERCE

Submission for OMB Review; Comment Request

The Department of Commerce (DOC) will submit to the Office of Management and Budget (OMB) for clearance the following proposal for collection of information under provisions of the Paperwork Reduction Act (44 U.S.C. Chapter 35).

Agency: Bureau of Industry and Security (BIS).

Title: Request for Special Priorities Assistance.

Agency Form Number: BIS-999.

OMB Approval Number: 0694-0057.

Type of Request: Extension of a currently approved collection of information.

Burden: 600 hours.

Average Time per Response: 30 minutes.

Number of Respondents: 1,200.

Needs and Uses: The information collected on BIS-999 from defense contractors and suppliers, is required for the enforcement and administration of the Defense Production Act and the Selective Service Act to provide Special Priorities Assistance under the Defense Priorities and Allocation System Regulations.

Affected Public: Individuals or households, business or other for-profit organizations.

Respondent's Obligation: Required to obtain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent within 30 days of publication of this notice to David Rostker, OMB Desk Officer, e-mail address, David_Rostker@omb.eop.gov, or fax number, (202) 395-7285.

Dated: March 1, 2007.
Gwellnar Banks,
Management Analyst, Office of the Chief Information Officer.

[FR Doc. E7-3875 Filed 3-5-07; 8:45 am]

BILLING CODE 3510-DT-P